DEPARTMENT OF DEFENSE

Department of the Navy

Notice of Public Meeting and Availability of the Draft Environmental Impact Statement for Construction and Operation of the Marine Corps Heritage Center at Marine Corps Base Quantico, Virginia

AGENCY: Department of the Navy, DOD.

ACTION: Notice.

SUMMARY: The Department of the Navy, United States Marine Corps, has prepared and filed with the U.S. Environmental Protection Agency (EPA) a Draft Environmental Impact Statement (DEIS) for the construction and operation of the Marine Corps Heritage Center at Marine Corps Base (MCB) Quantico, Virginia. A public meeting will be held to receive oral and written comments on the DEIS. Federal, state and local agencies, and interested parties are invited to attend the meeting.

DATES: Comments on the DEIS may be submitted in person to the Marine Corps at the Ramada Inn, 16304 Route 1, Triangle, VA, on August 10, 2000, between 7 p.m. and 9:30 p.m.

FOR FURTHER INFORMATION CONTACT: Mr. Hank Riek, Engineering Field Activity-Chesapeake, Naval Facilities Engineering Command, 1314 Harwood Street, SE., Building 212, Washington Navy Yard, DC, 20373-5018, telephone (202) 685-3064, fax (202) 685-3350, e-mail: riekhj@efaches.navfac.navy.mil.

SUPPLEMENTARY INFORMATION: Pursuant to Section 102(2)(C) of the National Environmental Policy Act of 1969, as implemented by the Council on Environmental Quality regulations (40 CFR Parts 1500-1508), the Department of the Navy, United States Marine Corps has prepared and filed with the EPA a DEIS for the construction and operation of the Marine Corps Heritage Center on or near MCB Quantico, Virginia.

The proposed Marine Corps Heritage Center would be a large multi-structure museum complex, intended to consolidate operations of the Marine Corps History and Museum Division and enhance the protection and presentation of Marine Corps history and historical collections. The complex would include approximately 20 buildings dispersed over a 100-acre site. Facilities planned for development at the site would include a visitor center, library, workshops, exhibit/display facilities, administrative offices, curation facilities, conference center, theater, restaurant, gift shop, and various related structures. Outdoor areas would be used for exhibits, memorials, ceremonies and demonstrations. Five alternative sites for the Marine Corps Heritage Center are evaluated in the DEIS. All five sites are located adjacent to the Interstate 95/US Route 1 corridor, on or near MCB Quantico, Virginia.

Copies of the DEIS have been mailed to Federal, State, and local agencies, area public libraries, local representatives, and persons or groups that expressed an interest in the proposed action during the EIS scoping process. Requests for copies of, or comments on, the DEIS may be made to the point of contact listed above. Federal, State and local agencies, and interested parties are invited to attend the scheduled meeting. Oral comments will be recorded at the public meeting, but it is recommended that written statements be submitted to assure accuracy. All comments must be received no later than September 1, 2000.

Dated: July 24, 2000.
J.L. Roth,
Lieutenant Commander, U.S. Navy, Federal Register Liaison Officer.

[FR Doc. 00-19042 Filed 7-27-00; 8:45 am]

BILLING CODE 3810-FF-P